FEDERAL COMMUNICATIONS COMMISSION

47 CFR Part 73

[MB Docket No. 12-177; RM-11665; DA 12-1554]

Radio Broadcasting Services; Randsburg, CA

AGENCY: Federal Communications Commission.

ACTION: Final rule.

SUMMARY: The Audio Division, at the request of Sound Enterprises, substitutes Channel 275A for vacant Channel 271A at Randsburg, California to accommodate the hybrid contingent application for Station KSSI (FM), requesting to upgrade the facilities of the FM station from Channel 274A to Channel 271B1 at China Lake, California. A staff engineering analysis determines that Channel 275A can be allotted to Randsburg consistent with the minimum distance separation requirements of the Rules with a site restriction 0.04 kilometers (0.03 miles) southeast of the community. The reference coordinates for Channel 275A at Randsburg are 35-22-06 NL and 117-39-25 WL.

DATES: Effective November 12, 2012.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Commission's Report and Order, adopted September 27, 2012, and released September 28, 2012. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under California, is amended by removing Channel 271A at Randsburg, and by adding Channel 275A at Randsburg.

[FR Doc. 2012-25941 Filed 10-22-12; 8:45 am]

BILLING CODE 6712-01-P